DEPARTMENT OF TRANSPORTATION

Federal Aviation Administration

14 CFR Part 39

[Docket No. FAA-2014-0643; Directorate Identifier 2013-SW-059-AD]

RIN 2120-AA64

Airworthiness Directives; Bell Helicopter Textron Canada (Bell) Helicopters

AGENCY: Federal Aviation Administration (FAA), DOT.

ACTION: Notice of proposed rulemaking (NPRM).

SUMMARY: We propose to supersede airworthiness directive (AD) 2001-13-51 for Bell Model 206L-4, 407, and 427 helicopters. AD 2001-13-51 currently requires inspecting certain driveshafts for a crack, a loose bolt or nut, or red powder residue and replacing a driveshaft if there is a crack, a loose bolt or nut, or red powder residue. AD 2001-13-51 also requires notifying the FAA within 10 days if a crack is found in the driveshaft. Since we issued AD 2001-13-51, the Model 429 helicopter has been certificated, and the reporting requirement is no longer necessary. This proposed AD would retain the inspection requirement of AD 2001-13-51, expand the applicability to include the Model 429 helicopter, and remove the reporting requirement. These proposed actions are intended to prevent failure of a driveshaft, loss of drive to the main rotor system, and a subsequent emergency landing.

DATES: We must receive comments on this proposed AD by November 14, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4; telephone (450) 437-2862 or (800) 363-8023; fax (450) 433-0272; or at http://www.bellcustomer.com/files/. You may review service information at the FAA, Office of the Regional Counsel, Southwest Region, 2601 Meacham Blvd., Room 663, Fort Worth, Texas 76137.

FOR FURTHER INFORMATION CONTACT: Matthew Fuller, Aviation Safety Engineer, Safety Management Group, Rotorcraft Directorate, FAA, 2601 Meacham Blvd., Fort Worth, Texas 76137; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On June 27, 2001, the FAA issued Emergency AD 2001-13-51, which we published by issuing a Final rule; request for comment on September 21, 2001 (66 FR 48535 FR), for Bell Model 206L-4, 407 and 427 helicopters. AD 2001-13-51 requires visually inspecting driveshaft, part number (P/N) 206-340-300-105, for a crack, a loose bolt or nut, or red powder residue and replacing a driveshaft if there is a crack, a loose bolt or nut, or red powder residue. AD 2001-13-51 also requires notifying the FAA within 10 days if a crack is found in the driveshaft, and prohibits interchanging a driveshaft between different models if the driveshaft has ever been installed on a Bell Model 407 helicopter. AD 2001-13-51 was prompted by a driveshaft failure on a Bell Model 407 helicopter that resulted in an engine shutdown and an emergency landing, as well as three other incidents of a cracked flex frame on the forward end of the driveshaft on other Model 407 helicopters. AD 2001-13-51 was prompted by AD No. CF-2001-24, dated June 11, 2001, issued by Transport Canada Civil Aviation (TCCA), which is the aviation authority for Canada. TCCA AD No. CF-2001-24 required a one-time visual inspection of the driveshaft.

Actions Since AD 2001-13-51 Was Issued

Since we issued AD 2001-13-51 (66 FR 48535, September 21, 2001), the Model 429 helicopter was certificated, and TCCA issued Revision 3, dated September 26, 2013, to AD No. CF-2001-24. Revision 3 adds Model 429 helicopters to the applicability section and requires removing any driveshaft, P/N 206-340-300-105, if it has ever been installed on a Bell Model 407 helicopter.

This proposed AD would expand the applicability to include the Bell Model 429 helicopter because the driveshaft, P/N 206-340-300-105, can also be installed on the Bell Model 429 helicopter. Also, we have removed the requirement to notify the FAA if a crack is found in the driveshaft because we did not receive any reports of driveshaft problems. This proposed AD would retain the one-time inspection, if not previously accomplished, for a crack, a loose bolt or nut, and red powder residue, and if there is a crack, a loose bolt or nut, or red powder residue, replacing each unairworthy driveshaft with an airworthy driveshaft before further flight. The one-time inspection is not required for Bell Model 429 helicopters because that model would have had the inspection done when it was certificated. Lastly, this proposed AD would require for all applicable models, within 1,250 hours time-in-service (TIS), removing from service any driveshaft, P/N 206-340-300-105, if it has ever been installed on a Bell Model 407 helicopter.

FAA's Determination

These helicopters have been approved by the aviation authority of Canada and are approved for operation in the United States. Pursuant to our bilateral agreement with Canada, TCAA, its technical representative, has notified us of the unsafe condition described in its AD. We are proposing this AD because we evaluated all known relevant information and determined that an unsafe condition is likely to exist or develop on other helicopters of the same type design.

Related Service Information

We reviewed Bell Alert Service Bulletin (ASB) No. 206L-01-123, Revision A, dated February 22, 2006, for Bell Model 206L-4 helicopters and ASB No. 427-01-04, Revision A, dated March 31, 2006, for Bell Model 427 helicopters. Both ASBs describe inspecting the Historical Service Record of the engine-to-transmission driveshaft, P/N 206-340-300-105, to determine whether the driveshaft has ever been installed on a Bell Model 407 helicopter and removing the driveshaft if it has ever been installed on a Model 407 helicopter. We also reviewed Bell ASB No. 407-01-45, Revision B, dated April 23, 2013, for Bell Model 407 helicopters, which describes an engine-to-transmission driveshaft 1,250-Hour overhaul. TCCA classified these ASBs as mandatory and issued AD No. CF-2002-03R3, dated September 26, 2013, to ensure the continued airworthiness of these helicopters.

Proposed AD Requirements

This proposed AD would require:

• Within 50 hours TIS, determining whether driveshaft, P/N 206-340-300-105, has ever been installed on a Bell Model 407 helicopter and making a note on the component history card or equivalent record. If a driveshaft has ever been installed on a Model 407 helicopter:

○ Within 25 hours TIS, inspecting each Model 206L-4, 407, and 427 helicopter with an affected driveshaft installed for a crack, loose bolts or nuts, and red powder residue. If there is a crack, a loose bolt or nut, or red powder residue, replacing the driveshaft with an airworthy driveshaft before further flight.

○ For each helicopter with an affected driveshaft installed, on or before accumulating 1,250 hours TIS, replacing the driveshaft with an airworthy driveshaft.

This proposed AD would also prohibit installing driveshaft, P/N 206-340-300-105, on any helicopter if it has ever been installed on a Bell Model 407 helicopter.

Differences Between the Proposed AD and the TCCA AD

The TCCA AD requires following the compliance time specified in the Bell ASBs, which allows more time, based on the hours TIS, for removing the driveshaft. This proposed AD would require replacing the driveshaft before accumulating 1,250 hours TIS. The proposed AD would also prohibit the use of driveshaft, P/N 206-340-300-105, on the Model 407 helicopter.

Costs of Compliance

We estimate that this proposed AD would affect 970 helicopters of U.S. Registry. We estimate that operators may incur the following costs in order to comply with this proposed AD. Labor costs are estimated at $85 per work-hour. We estimate 0.25 work-hour to determine whether the driveshaft has ever been installed on a Bell Model 407 helicopter for a total cost of $22 per helicopter or $21,340 for the fleet. If a driveshaft has been installed on a Model 407 helicopter, we estimate 1 work hour to inspect the driveshaft for a cost of $85 per helicopter, and 2 work hours and $39,724 for required parts to replace a driveshaft for a cost of $39,894 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2001-13-51, Amendment 39-12443 (66 FR 48535, September 21, 2001), and adding the following new AD:

Bell Helicopter Textron Canada (Bell): Docket No. FAA-2014-0643; Directorate Identifier 2013-SW-059-AD.

(a) Applicability

This AD applies to Model 206L-4, 407, 427, and 429 helicopters with an engine-to-transmission driveshaft assembly (driveshaft), part number (P/N) 206-340-300-105, installed, certificated in any category.

(b) Unsafe Condition

This AD defines the unsafe condition as failure of a driveshaft due to cracking of the flex frame on the forward end of the driveshaft. This condition could result in loss of drive to the main rotor system and a subsequent emergency forced landing.

(c) Affected ADs

This AD supersedes AD 2001-13-51, Amendment 39-12443, Docket No. 2001-SW-29-AD (66 FR 48535, September 21, 2001).

(d) Comments Due Date

We must receive comments by November 14, 2014.

(e) Compliance

You are responsible for performing each action required by this AD within the specified compliance time unless it has already been accomplished prior to that time.

(f) Required Actions

(1) Within 50 hours time-in-service (TIS), determine whether driveshaft, P/N 206-340-300-105, has ever been installed on a Bell Model 407 helicopter, and record this on the component history card or equivalent record. If driveshaft, P/N 206-340-300-105, has ever been installed on a Bell Model 407 helicopter:

(i) For Bell Model 206L-4, 407, and 427 helicopters, within 25 hours TIS, inspect each driveshaft for a crack, a loose bolt or nut, and red powder residue. If there is a crack, a loose bolt or nut, or red powder residue, replace the driveshaft with an airworthy driveshaft before further flight.

(ii) For all affected Bell model helicopters, on or before accumulating 1,250 hours TIS, replace each driveshaft with an airworthy driveshaft.

(2) Do not install driveshaft, P/N 206-340-300-105, on any helicopter if it has ever been installed on a Bell Model 407 helicopter.

(g) Special Flight Permit

Special flight permits are prohibited.

(h) Alternative Methods of Compliance (AMOCs)

(1) The Manager, Safety Management Group, FAA, may approve AMOCs for this AD. Send your proposal to: Matthew Fuller, Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(i) Additional Information

(1) Bell Alert Service Bulletin (ASB) No. 206L-01-123, Revision A, dated February 22, 2006; ASB No. 427-01-04, Revision A, dated March 31, 2006; and ASB No. 407-01-45, Revision B, dated April 23, 2013, which are not incorporated by reference, contain additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 2601 Meacham Blvd., Room 663, Fort Worth, Texas 76137.

(2) The subject of this AD is addressed in Transport Canada Civil Aviation (TCCA) AD No. CF-2002-03R3, Revision 3, dated September 26, 2013. You may view the TCCA AD on the Internet at http://www.regulations.gov in Docket No. FAA-2014-0643.

(j) Subject

Joint Aircraft Service Component (JASC) Code: 6300 Main Rotor Drive System.

Issued in Fort Worth, Texas, on August 22, 2014.
Kim Smith,
Directorate Manager, Rotorcraft Directorate, Aircraft Certification Service.

[FR Doc. 2014-21919 Filed 9-12-14; 8:45 am]

BILLING CODE 4910-13-P